SECURITIES AND EXCHANGE COMMISSION

[Release No. 34-54995; File No. SR-Amex-2006-77]

Self-Regulatory Organizations; American Stock Exchange, LLC; Notice of Filing of Proposed Rule Change and Amendment No. 1 Thereto to Amend Rules 918 and 918—Ante Regarding Trading Rotations, Halts and Suspensions

Correction

In notice document E6-22398 beginning on page 78474 in the issue of Friday, December 29, 2006, make the following correction:

On page 78474, in the second column, footnote 31 should be footnote 3.

[FR Doc. Z6-22398 Filed 1-11-07; 8:45 am]

BILLING CODE 1505-01-D

SECURITIES AND EXCHANGE COMMISSION

[Release No. 34-55002; File No. SR-NYSEArca-2006-32]

Self-Regulatory Organizations; NYSE Arca, Inc.; Notice of Filing and Order Granting Accelerated Approval of Proposed Rule Change to Trade Various iShares® MSCI Index Funds Pursuant to Unlisted Trading Privileges

Correction

In notice document E6-22402 beginning on page 78503 in the issue of Friday, December 29, 2006, make the following correction:

On page 78504, in the third column, footnote 87 should be footnote 8.

[FR Doc. Z6-22402 Filed 1-11-07; 8:45 am]

BILLING CODE 1505-01-D

SECURITIES AND EXCHANGE COMMISSION

[Release No. 34-54979; File No. SR-NFA-2006-05]

Self-Regulatory Organization; National Futures Association; Notice of Filing and Immediate Effectiveness of a Proposed Rule Change and Amendment No. 1 Thereto Relating to the Interpretive Notice Regarding Automated Order-Routing Systems

Correction

In notice document E6-22657 beginning on page 813 in the issue of Monday, January 8, 2007, make the following correction:

On page 813, in the second column, footnote 21 should be footnote 2.

[FR Doc. Z6-22657 Filed 1-11-07; 8:45 am]

BILLING CODE 1505-01-D